DEPARTMENT OF HOMELAND SECURITY

Federal Emergency Management Agency

[Docket ID: FEMA-2009-0001]

Agency Information Collection Activities: Proposed Collection; Comment Request, 1660-0105; Community Preparedness and Participation Survey

AGENCY: Federal Emergency Management Agency, DHS.

ACTION: Notice; 60-day notice and request for comments; revision of a currently approved information collection; OMB No. 1660-0105; 088-0-2, Household Preparedness Telephone Survey.

SUMMARY: The Federal Emergency Management Agency, as part of its continuing effort to reduce paperwork and respondent burden, invites the general public and other Federal agencies to take this opportunity to comment on a proposed extension, without change, of a currently approved information collection. In accordance with the Paperwork Reduction Act of 1995, this Notice seeks comments concerning the Community Preparedness and Participation Survey, a telephone survey that collects preparedness information from the general population.

DATES: Comments must be submitted on or before February 8, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Jenelle Gabriele, Program Specialist, Community Preparedness Division at 202-786-9463 for additional information. You may contact the Records Management Branch for copies of the proposed collection of information at facsimile number (202) 646-3347 or e-mail address: FEMA-Information-Collections@dhs.gov.

SUPPLEMENTARY INFORMATION: This survey will allow the Federal Emergency Management Agency (FEMA) to collect information that reports the state of citizen preparedness in the United States. FEMA's Community Preparedness Division administers Citizen Corps, an initiative launched by President George W. Bush in Executive Order 13254 in January 2002. Citizen Corps' mission is to bring together government and community leaders to involve citizens in all-hazards emergency preparedness and resilience. To evaluate the Nation's progress on personal preparedness, FEMA's Community Preparedness Division conducts National surveys to measure the public's knowledge, attitudes, and behaviors relative to preparing for a range of hazards. This information collection enables Citizen Corps Councils and other community based organizations to improve upon their strategies to enhance preparedness programs and disaster response.

Collection of Information

Title: Community Preparedness and Participation Survey.

Type of Information Collection: Revision of a currently approved information collection.

OMB Number: OMB No. 1660-0105.

Form Titles and Numbers: FEMA Form 088-0-2, Household Preparedness Telephone Survey.

Abstract: FEMA's Community Preparedness Division would like to renew a currently approved collection to evaluate the state of preparedness nationally. The Community Preparedness Division analyzes the data collected through this telephone survey of the public to identify progress and gaps in citizen and community preparedness and participation. This information is used by the Community Preparedness Division, and Citizen Corps Councils to tailor awareness and recruitment campaigns, messaging and public information efforts, and strategic planning initiatives to more effectively improve the state of citizen preparedness and participation across the country.

Affected Public: Individuals or households.

Estimated Total Annual Burden Hours: 3,247 hours.

Table A.12—Estimated Annualized Burden Hours and Costs
Type of respondent | Form name/form number | Number of respondents | Number of responses per respondent | Total Number of responses | Avg. burden per response (in hours) | Total annual burden (in hours) | Avg. hourly wage rate* | Total annual respondent cost
Individuals or households | Household Preparedness Telephone Survey/FEMA Form 088-0-2 | 9,750 | 1 | 9,750 | 20 minutes (.333 hours) | 3,247 | $21.80 | $70,784.60
Total |  | 9,750 |  |  |  | 3,247 |  | 70,784.60

Estimated Cost: None.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: December 4, 2009.
Samuel C. Smith,
Acting Director, Records Management Division, Office of Management, Federal Emergency Management Agency, Department of Homeland Security.

[FR Doc. E9-29448 Filed 12-9-09; 8:45 am]

BILLING CODE 9111-05-P